NATIONAL FOUNDATION ON THE ARTS AND THE HUMANITIES

National Endowment for the Humanities

Agency Information Collection Request; 30-Day Public Comment Request

AGENCY: National Endowment for the Humanities, National Foundation on the Arts and the Humanities.

ACTION: Notice; request for comments.

SUMMARY: The National Endowment for the Humanities (NEH) is seeking Office of Management and Budget (OMB) approval for the information collection described below. In accordance with the Paperwork Reduction Act of 1995, NEH is requesting comments from all interested individuals and organizations on this proposed collection.

DATES: Please submit comments by May 6, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Timothy Carrigan, Chief Funding Opportunity Officer, Office of Grant Management, National Endowment for the Humanities: 400 Seventh Street SW, Washington, DC 20506, or tcarrigan@neh.gov; or 202-606-8377.

SUPPLEMENTARY INFORMATION: NEH first published notice of its intent to seek OMB approval for this information collection in the Federal Register of January 27, 2021 (86 FR 7310) and allowed 60 days for public comment. The agency received one public comment, dated January 27, 2021, which expressed general concern about the benefit of this information collection to the taxpayer. NEH acknowledged the comment but determined that it did not call for any change to the planned information collection since the opinion expressed was of a general nature and did not pertain to any specific aspects of the information collection. The purpose of this notice is to allow an additional 30 days for public comment.

Overview of This Information Collection

Type of Review: Revision of an existing information collection.

Title of Information Collection: Generic Clearance Authority for the National Endowment for the Humanities.

Abstract: The National Endowment for the Humanities is seeking to renew its generic clearance authority. The generic clearance authority includes all NEH information collections, except one-time evaluations, questionnaires, and surveys.

The proposed revision adjusts the overall burden estimate from 88,815 to 296,433 hours. This estimate reflects the anticipated change in the number of respondents from 7,815 to 6,767 and an updated estimated time per response that more accurately reflects the hours required to complete a grant application. Previously, NEH estimated fifteen hours were needed to complete a grant application. Further study has increased the estimate to sixty hours per proposal. The burden estimate for associated forms and reporting requirements has not changed.

OMB Number: 3136-0134.

Affected Public: Applicants to NEH grant programs, reviewers of NEH grant applications, and NEH award recipients.

Frequency of Collection: On occasion.

Total Respondents: 6,767.

Total Responses: 6,767.

Estimated Time per Response: Varies according to type of information collection.

Estimated Total Burden Hours: 615 hours.

Request for Comments

The public is invited to comment on all aspects of this ICR, including: (a) Whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: March 30, 2021.
Elizabeth Voyatzis,
Deputy General Counsel, National Endowment for the Humanities.

[FR Doc. 2021-06986 Filed 4-5-21; 8:45 am]

BILLING CODE 7536-01-P